ENVIRONMENTAL PROTECTION AGENCY

[EPA-HQ-OAR-2007-0326; FRL-8301-5]

Proposed Approval of the Central Characterization Project's Transuranic Waste Characterization Program at Los Alamos National Laboratory

AGENCY: Environmental Protection Agency.

ACTION: Notice of availability; opening of public comment period.

SUMMARY: The Environmental Protection Agency (EPA or we) is announcing the availability of, and soliciting public comments for 30 days on, the proposed approval of the radioactive, transuranic (TRU) waste characterization program implemented by the Central Characterization Project (CCP) at Los Alamos National Laboratory (LANL). This waste is intended for disposal at the Waste Isolation Pilot Plant (WIPP) in New Mexico. In accordance with the WIPP Compliance Criteria, EPA evaluated LANL-CCP's characterization of contact-handled TRU debris and solid waste during an inspection conducted May 23-25, 2006, as well as during follow-up inspections on August 22, 2006, and March 6, 2007. Using the systems and processes developed as part of the Department of Energy's (DOE's) Carlsbad Field Office (CBFO), EPA verified whether DOE could adequately characterize TRU waste consistent with the Compliance Criteria. The results of EPA's evaluation of the LANL-CCP program and the proposed approval are described in EPA's inspection report, which is available for review in the public dockets listed in ADDRESSES. We will consider public comments received on or before the due date mentioned in DATES.

This notice summarizes the waste characterization processes evaluated by EPA and EPA's proposed approval. As required by the 40 CFR 194.8, at the end of a 30-day comment period EPA will evaluate public comments received, finalize the report responding to the relevant public comments, and issue the final report and an approval letter to DOE's CBFO. Based on previous EPA inspections and approvals, LANL-CCP is currently approved to dispose of debris and solid waste at WIPP. LANL-CCP is permitted to continue waste characterization and disposal in accordance with prior site approvals while EPA establishes a baseline approval.

DATES: Comments must be received on or before May 18, 2007.

ADDRESSES: Submit your comments, identified by Docket ID No. EPA-HQ-OAR-2007-0326, by one of the following methods:

• http://regulations.gov: Follow the on-line instructions for submitting comments.

• E-mail: to a-and-r-docket@epa.gov

• Fax: 202-566-1741

• Mail: Air and Radiation Docket and Information Center, Environmental Protection Agency, Mailcode: 6102T, 1200 Pennsylvania Ave., NW., Washington, DC 20460.

Instructions: Direct your comments to Attn: Docket ID No. EPA-HQ-OAR-2007-0326. The Agency's policy is that all comments received will be included in the public docket without change and may be made available online at http://regulations.gov, including any personal information provided, unless the comment includes information claimed to be Confidential Business Information (CBI) or other information whose disclosure is restricted by statute. Do not submit information that you consider to be CBI or otherwise protected through http://regulations.gov or e-mail. The http://regulations.gov Web site is an “anonymous access” system, which means EPA will not know your identity or contact information unless you provide it in the body of your comment. If you send an e-mail comment directly to EPA without going through http://regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://regulations.gov index. Although listed in the index, some information is not publicly available, e.g., CBI or other information whose disclosure is restricted by statute. Certain other material, such as copyrighted material, will be publicly available only in hard copy. Publicly available docket materials are available either electronically at http://regulations.gov or in hard copy at the Air and Radiation Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Air and Radiation Docket is (202) 566-1742. These documents are also available for review in hard-copy form at the following three EPA WIPP informational docket locations in New Mexico: in Carlsbad at the Municipal Library, Hours: Monday-Thursday, 10 a.m.-9 p.m., Friday-Saturday, 10 a.m.-6 p.m., and Sunday, 1 p.m.-5 p.m., phone number: 505-885-0731; in Albuquerque at the Government Publications Department, Zimmerman Library, University of New Mexico, Hours: vary by semester, phone number: 505-277-2003; and in Santa Fe at the New Mexico State Library, Hours: Monday-Friday, 9 a.m.-5 p.m., phone number: 505-476-9700. As provided in EPA's regulations at 40 CFR Part 2, and in accordance with normal EPA docket procedures, if copies of any docket materials are requested, a reasonable fee may be charged for photocopying.

FOR FURTHER INFORMATION CONTACT: Rajani Joglekar, Radiation Protection Division, Center for Federal Regulations, Mail Code 6608J, U.S. Environmental Protection Agency, 1200 Pennsylvania Avenue, Washington, DC 20460; telephone number: 202-343-9601; fax number: 202-343-2305; e-mail address: joglekar.rajani@epa.gov.

SUPPLEMENTARY INFORMATION:

I. General Information

A. What Should I Consider as I Prepare My Comments for EPA?

1. Submitting CBI. Do not submit this information to EPA through www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Background

DOE is developing the WIPP near Carlsbad in southeastern New Mexico as a deep geologic repository for disposal of TRU radioactive waste. As defined by the WIPP Land Withdrawal Act (LWA) of 1992 (Pub. L. 102-579), as amended (Pub. L. 104-201), TRU waste consists of materials containing processes having atomic numbers greater than 92 (with half-lives greater than twenty years), in concentrations greater than 100 nanocuries of alpha-emitting TRU isotopes per gram of waste. Much of the existing TRU waste consists of items contaminated during the production of nuclear weapons, such as rags, equipment, tools, and sludges.

On May 13, 1998, EPA announced its final compliance certification decision to the Secretary of Energy (published May 18, 1998, 63 FR 27354). This decision stated that the WIPP will comply with EPA's radioactive waste disposal regulations at 40 CFR Part 191, Subparts B and C.

The final WIPP certification decision includes conditions that (1) prohibit shipment of TRU waste for disposal at WIPP from any site other than the Los Alamos National Laboratories (LANL) until the EPA determines that the site has established and executed a quality assurance program, in accordance with §§ 194.22(a)(2)(i), 194.24(c)(3), and 194.24(c)(5) for waste characterization activities and assumptions (Condition 2 of Appendix A to 40 CFR part 194); and (2) (with the exception of specific, limited waste streams and equipment at LANL) prohibit shipment of TRU waste for disposal at WIPP (from LANL or any other site) until EPA has approved the procedures developed to comply with the waste characterization requirements of § 194.22(c)(4) (Condition 3 of Appendix A to 40 CFR Part 194). The EPA's approval process for waste generator sites is described in § 194.8.

In July 2004, EPA promulgated changes to the “Criteria for the Certification and Recertification of the Waste Isolation Pilot Plant's Compliance with Disposal Regulations” (69 FR 42571-42583, July 16, 2004). These changes went into effect October 14, 2004, which modified the EPA approval of waste characterization (“WC”) programs at DOE's TRU waste sites. These revisions provide equivalent or improved oversight and better prioritization of technical issues in EPA inspections to evaluate WC activities at DOE WIPP waste generator sites, and also offer more direct public input into the Agency's decisions about what waste can be disposed of at WIPP. They do not modify the technical approach that EPA has employed since the 1998 WIPP Certification Decision.

Condition 3 of the WIPP Certification Decision requires that EPA conduct independent inspections at DOE's waste generator/storage sites of their TRU waste characterization capabilities before approving their program and the waste for disposal at the WIPP. The revised inspection and approval process gives EPA greater (a) discretion in establishing technical priorities, (b) ability to accommodate variation in the site's waste characterization capabilities, and (c) flexibility in scheduling site WC inspections. The § 194.8 changes require that EPA conduct a baseline inspection at every previously approved TRU site (such as AMWTP/INL). EPA expects that within two years after the effective date of October 2004 most of the previously approved TRU sites (such as Hanford, Los Alamos CCP, and Savannah River Site CCP) will undergo EPA baseline inspections. Following these inspections, the Agency will issue a new baseline compliance decision for these sites.

As part of the baseline inspection, EPA must evaluate each WC process component (equipment, procedures, and personnel training/experience) for its adequacy and appropriateness in characterizing TRU waste destined for the disposal at WIPP. During the inspection, the site demonstrates its capabilities to characterize TRU waste(s) and its ability to comply with the regulatory limits and tracking requirements under § 194.24. The baseline inspection can result in approval with limitations/conditions or may require follow-up inspection(s) before approval. The approval must specify what subsequent WC program changes or expansion should be reported to EPA. The Agency is required to assign Tier 1 (“TI”) and Tier 2 (“T2”) to the reportable changes depending on their potential impact on data quality. A T1 designation requires that the site must notify EPA of proposed changes to the approved components of an individual WC process (such as radioassay equipment or personnel), and EPA must also approve the change before it can be implemented. A WC element with a T2 designation allows the site to implement changes to the approved components of individual WC processes (such as visual examination procedures) but requires EPA notification. The Agency may choose to inspect the site to evaluate technical adequacy before approval. EPA inspections conducted to evaluate T1 or T2 changes are follow-up inspections under the authority of § 194.24(h). In addition to the follow-up inspections, if warranted, EPA may opt to conduct continued compliance inspections at TRU waste sites with a baseline approval under the authority of § 194.24(h).

The revisions to the site inspection and approval process outlined in § 194.8 require EPA to issue a Federal Register notice proposing the baseline compliance decision, docket the inspection report for public review, and seek public comment on the proposed decision for a period of 30 days. The report must describe the WC processes EPA inspected at the site, as well as their compliance with § 194.24 requirements.

III. Proposed Baseline Compliance Decision

In accordance with 40 CFR 194.8(b), EPA conducted a baseline inspection of the CCP's waste characterization program at LANL in Los Alamos, New Mexico. This inspection occurred on May 23-25, 2006, with a follow-up inspection of the visual examination (VE) process related to the sealed sources program conducted on August 22, 2006. On March 6, 2007, the Agency also performed an on-site follow-up evaluation at LANL to verify the resolution of all open EPA issues. (All three inspections are grouped under EPA Baseline Inspection No. LANL-CCP-05.06-8).

The CCP is a mobile characterization program that assists TRU waste generator sites with complex waste characterization activities. At some sites (such as LANL and Savannah River Site) and small TRU waste generator sites (such as Argonne National Laboratory and Lawrence Livermore National Laboratory) the CCP has the sole responsibility to characterize contact-handled (CH), retrievably-stored TRU waste destined for the disposal at the WIPP.

The purpose of EPA's inspection was to verify that LANL-CCP is characterizing CH TRU retrievably-stored debris waste (S5000) and solid waste (S3000), properly and in compliance with the regulatory requirements at 40 CFR 194.24. EPA also evaluated characterization of sealed sources collected and repackaged as part of the Offsite Source Recovery Program (OSRP) at LANL as a CH TRU newly-generated debris waste. During the inspection, EPA also evaluated LANL-CCP's use of the WIPP Waste Information System (WWIS) for tracking the contents of CH TRU waste containers destined for disposal at WIPP. This tracking ensures that the volume emplaced in the WIPP repository and characteristics of the emplaced wastes conform to the requirements of the WIPP LWA and the specific conditions of the WIPP Certification Decision.

During the inspection, EPA evaluated the adequacy, implementation, and effectiveness of LANL-CCP's waste characterization activities. The Agency's evaluation focused on the individual components—equipment, procedures, and personnel training/experience of the following waste characterization processes: Acceptable knowledge (AK), nondestructive assay (NDA), visual examination techniques (VET), visual examination/real-time radiography (VE/RTR), load management, and the WWIS. The overall program adequacy and effectiveness of LANL-CCP was based on the following DOE-provided upper-tier documents: (1) CCP-PO-001—Revision 13, 11/16/06—CCP Transuranic Waste Characterization Quality Assurance Project Plan and (2) CCP-PO-002—Revision 18, 11/16/06—CCP Transuranic Waste Certification Plan.

EPA previously evaluated and approved WC systems at LANL, most recently in April 2005 (EPA Docket No. A-98-49, II-A4-57). LANL received approval to dispose of contact handled, retrievably-stored debris (S5000) and solid waste (S3000), and repackaged sealed sources as newly-generated debris waste prior to this baseline inspection. The purpose of the LANL-CCP baseline and follow-up inspections was to evaluate the adequacy of the site's WC programs for two TRU waste categories—debris and solids—to be disposed of at the WIPP; the debris included sealed sources from the OSRP. During the inspections, the Agency examined the following activities:

• Acceptable knowledge (AK) and load management for contact-handled (CH) retrievably-stored TRU debris waste (S5000) and solid waste (S3000) and AK for CH newly-generated, repackaged debris waste from the OSRP.

• Visual examination (VE) as a quality control (QC) check of real-time radiography (RTR) and in lieu of RTR for CH retrievably-stored TRU debris waste (S5000) and solid waste (S3000) and Visual Examination Technique (VET) for CH newly-generated, repackaged debris waste from the OSRP.

• RTR for CH retrievably-stored TRU debris waste (S5000) and solid waste (S3000).

• Nondestructive assay (NDA), specifically, three NDA systems—LANL HENC #1 and LANL HENC #2 for characterizing debris (S5000) and solid (S3000) waste, respectively, and the portable tomographic gamma scanner (PTGS) for characterizing debris waste (S5000) ¹ only.

¹ NDA systems are typically not matrix-specific in the same manner as other characterization techniques and their approval is not tied to specific waste matrix categories (i.e., S3000 or S5000). Specifically, virtually any material within the system's matrix calibration range may be assayed.

• WIPP Waste Information System (WWIS) for CH retrievably-stored TRU debris waste (S5000) and solid waste (S3000).

In addition to reviewing individual components (namely, procedures, and equipment) of each of the WC processes (AK, NDA, VET, VE/RTR, load management, and the WWIS), the Agency interviewed and reviewed training records of personnel responsible for compiling data, analyzing waste contents, operating equipment, and preparing data for WWIS tracking. EPA also required radioassay replicate analysis on selected containers from the population of previously analyzed waste containers on the same system or instrument for the two different waste categories. The purpose of this replicate testing is to provide EPA with an independent means to verify that the radioassay equipment being assessed for approval can provide consistent, reproducible results for the determination of the quantity of 10 WIPP-tracked radionuclides (241Am, 137Cs, 238Pu, 239Pu, 240Pu, 242Pu, 90Sr, 233U, 234U, and 238U) as well as TRU alpha concentration. The results of the replicate analysis help EPA to determine whether:

• The instrument produces results consistent with the reported total measurement uncertainty (TMU) by comparing the sample standard deviation for a number of replicate measurements taken over several hours or days to the reported TMU.

• The instrument provides reproducible results over longer periods of time, such as weeks or months, by comparing the results of the replicate measurement(s) to the original reported values.

The EPA inspection team identified one finding and seven concerns. The finding in the area of VE and five of the concerns required a response from DOE, while two concerns did not require a response. EPA Inspection Issue Tracking Forms (see Attachments C.1 through C.8 to the proposed baseline inspection report) document the finding and seven concerns. Personnel from LANL, CBFO, and CCP provided information on resolutions for the finding and concerns to the EPA inspection team prior to the closeout of the onsite inspection and after the inspection. The information provided by CBFO addressed the one finding and the concerns that required a response, as well as the two concerns that did not require a response. Between May 2006 and March 2007, CCP provided satisfactory resolution addressing three concerns while one finding and three concerns remained unresolved. At the follow-up inspection on March 6, 2007, CCP discussed with the EPA inspection team their responses for the four outstanding issues that EPA evaluated for completeness and adequacy, and concluded that each had been resolved satisfactorily. EPA considers the one finding and all concerns to be resolved, and there are no open issues resulting from this inspection.

The EPA inspection team determined that the LANL-CCP WC program activities were technically adequate. EPA is proposing to approve the LANL-CCP WC program in the configuration observed during this inspection and described in this report and the checklists included in the proposed baseline inspection report (Report Attachments A.1 through A.8). This proposed approval includes the following:

(1) The AK and load management process for CH retrievably-stored TRU debris and solid wastes and for newly-generated debris wastes from the OSRP.

(2) The LANL HENC #1 and LANL HENC #2 NDA systems for assaying solid and debris wastes.

(3) The PTGS NDA system for assaying debris waste.

(4) VE as a QC check of the RTR process and in lieu of the RTR process for retrievably-stored solid and debris wastes and VET of newly-generated debris wastes from the OSRP.

(5) The nondestructive examination process of RTR for retrievably-stored solid and debris wastes.

(6) The WWIS process for tracking of waste contents of solid and debris wastes, including debris from the OSRP.

LANL-CCP must report and, if applicable, receive EPA approval of any changes to the WC activities from the date of the baseline inspection, according to Table 1, below. Table 1 in this report is not identical to those included in previous baseline inspection reports and EPA site approval letters in several ways. The most important of these involve presentation of the Tier 2 (T2) elements. In previous reports there were two T2 columns that have been merged into a single T2 column for LANL-CCP. The T2 column entries have also been modified to better reflect the 40 CFR 194.24 (h) requirements that the site provide notification regarding the completion or availability of specific T2 elements, whereas the previous tables stated that the site must actually provide the T2 elements (document or procedure revisions, etc.). This approach is similar to the tiering tables used in EPA reports for sites characterizing remote handled TRU waste. Additionally, there are other minor word changes to the table for the sake of legibility.

There are changes to specific WC areas as well. For AK, the AK Reassessment Memoranda (reflecting resolution to concern LANL-CCP-AK-06-001CR) and the AK-VE Memoranda related to VE cited under T2 changes (reflecting resolution to finding LANL-CCP-VE-06-004F) do not appear in the tiering tables in previous baseline inspection reports. Similarly, requesting revisions to CCP-AK-008 or notification regarding the combination of waste streams that were distinct at the time of inspection are specific to the LANL OSRP or the result of information identified during this inspection. Accordingly, these are absent from the tiering tables in previous baseline inspection reports. For WWIS, changes to specific process elements (e.g., spreadsheets and data fields) are cited as T2 changes and these did not appear in previous tiering tables. These were added to provide a greater degree of specificity in an attempt to identify and focus on the key elements relevant to waste isolation.

The table below summarizes EPA's proposed tiering for LANL-CCP. As described previously, T1 changes require EPA approval prior to implementation of the change and may require EPA inspection to determine technical adequacy. T2 changes may be implemented prior to EPA approval; however, this type of change must be reported to EPA quarterly. Any changes to WC activities from the date of the baseline inspection must be reported to and, if applicable, approved by EPA, according to the following table:

Table 1.—Tiering of TRU WC Processes Implemented by LANL-CCP Based on May 23-25, 2006 On Site Baseline Inspection, August 22, 2006 OSRP Inspection and March 6, 2007 Evaluation
WC process elements | LANL-CCP WC T1 changes | LANL-CCP WC T2 changes*
Acceptable Knowledge (AK) and Load Management | Any new waste category, or new OSRP wastes addressed in AK Summaries separate from CCP-AK-008; AK (3), AK (6), AK (16) and (AK) 17 Implementation of Load Management for waste streams other than AK-009; AK (5). | Notification to EPA upon completion of AK Accuracy Reports; AK (2). Notification to EPA upon completion of updates to or substantive modifications of the following: —AK Reassessment Memoranda; AK (1) and AK (6). —AK-VE Memoranda related to VE and/or RTR techniques; AK (2).
|  | —AK-NDA Memoranda; AK (3).
|  | —Site procedures requiring CBFO approval; AK (4).
|  | —AK Summary CCP-AK-008, if changed to include newly approved ²³⁹Pu and ²⁴¹Am sealed sources and/or irradiated sources; AK (6).
|  | —Combination of waste streams that were distinct at the time of this inspection; AK (6).
|  | —Change Notices used to modify and update WSPFs, including additions to waste stream(s) within an approved waste category; AK (9).
Nondestructive Assay (NDA) | New equipment or physical modifications to approved equipment**; NDA (1) Extension or changes to approved calibration range for approved equipment; NDA (2). | Notification to EPA upon completion of changes to software for approved equipment, operating range(s) and site procedures that require CBFO approval; NDA (2).
Real-Time Radiography (RTR) | N/A | Notification to EPA upon the following: —Implementation of new equipment or substantive changes to approved equipment; RTR (1). —Completion of changes to site procedures requiring CBFO approvals; RTR (2).
Visual Examination (VE) and Visual Examination Technique (VET), including OSRP Wastes (Sealed Source VET or SSVET) | N/A | Notification to EPA upon the following: —Completion of changes to site VE and VET procedures requiring CBFO approvals, including OSRP VET procedure; VE (1) and SSVET (1).
WIPP Waste Information System (WWIS) | N/A | Notification to EPA upon the following: —Completion of changes to WWIS procedure(s) requiring CBFO approvals; WWIS (1) and WWIS (2).
|  | —Changes to the Excel spreadsheet, WWIS data entry summary, characterization and certification; WWIS (1) and WWIS (2).
* Upon receiving EPA approval, LANL-CCP will report all T2 changes to EPA at the end of each fiscal year quarter.
** Modifications to approved equipment include all changes with the potential to affect NDA data relative to waste isolation and exclude minor changes, such as the addition of safety-related equipment.

EPA will notify the public of the results of its evaluations of proposed Tier 1 (T1) and T2 changes through postings to the EPA WIPP Web site and by sending e-mails to the WIPP-NEWS listserv (see Section 2.0 of this report for a brief discussion of tiering). All T1 changes must be submitted for evaluation and approval by EPA before their implementation. Upon approval, EPA will post the results of the evaluations through the EPA Web site and the WIPPNEWS list, as described above. Upon completion of its review of the T2 changes submitted at the end of each fiscal quarter, EPA will post the T2 changes. EPA expects the first report of LANL-CCP's T2 changes at the end of the fourth quarter FY 2007.

The scope of the site baseline compliance decision is based on EPA's inspections completed on May 25, 2006, and August 22, 2006, and the follow-up evaluation conducted on March 6, 2007.

IV. Availability of the Baseline Inspection Report for Public Comment

EPA has placed the report discussing the results of EPA's inspection of the CCP waste characterization program at LANL in the public docket as described in ADDRESSES. In accordance with 40 CFR 194.8, EPA is providing the public 30 days to comment on these documents. The Agency requests comments on the tiering designations and the proposed approval decision. EPA will accept public comment on this notice and supplemental information as described in Section 1.B. above. The EPA will not make a determination of compliance before the 30-day comment period ends. At the end of the public comment period, EPA will evaluate all relevant public comment and revise the inspection report as necessary. The Agency will then issue an approval letter and the final inspection report, both of which will be posted on the WIPP Web site. The letter of approval will allow CCP to use the approved TRU waste characterization processes to characterize waste at LANL.

Information on the certification decision is filed in the official EPA Air Docket, Docket No. A-93-02 and is available for review in Washington, DC, and at the three EPA WIPP informational docket locations in New Mexico (as listed in ADDRESSES). The dockets in New Mexico contain only major items from the official Air Docket in Washington, DC, plus those documents added to the official Air Docket since the October 1992 enactment of the WIPP LWA.

Dated: April 11, 2007.
Elizabeth Cotsworth,
Director, Office of Radiation and Indoor Air.

[FR Doc. E7-7349 Filed 4-17-07; 8:45 am]

BILLING CODE 6560-50-P